DEPARTMENT OF THE TREASURY

Office of the General Counsel; Appointment of Members of the Legal Division to the Performance Review Board, Internal Revenue Service

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, Lily Fu, Deputy General Counsel (Department of Treasury).

2. Kathy Petronchek, Commissioner, Small Business/Self-Employed (Internal Revenue Service).

3. Karen Gilbreath-Sowell, Deputy Assistant Secretary for Tax Policy (Department of Treasury).

This publication is required by 5 U.S.C. 4314(c)(4).

Dated: September 13, 2007.
Donald L. Korb,
Chief Counsel, Internal Revenue Service.

[FR Doc. E7-18358 Filed 9-17-07; 8:45 am]

BILLING CODE 4830-01-P